DEPARTMENT OF THE TREASURY

Office of Thrift Supervision

[Docket ID OTS-2010-0030]

Open Meeting of the OTS Mutual Savings Association Advisory Committee

AGENCY: Department of the Treasury, Office of Thrift Supervision.

ACTION: Notice of meeting.

SUMMARY: The OTS Mutual Savings Associations Advisory Committee (MSAAC) will convene a meeting on Wednesday, October 20, 2010, beginning at 9:30 a.m. Eastern Time. The meeting will be open to the public. Members of the public interested in attending the meeting and members of the public who require auxiliary aid should e-mail OTS at mutualcommittee@ots.treas.gov or call (202) 906-6429 to obtain information on how to attend the meeting.

DATES: The meeting will be held on Wednesday, October 20, 2010, at 9:30 a.m. Eastern Time.

ADDRESSES: The meeting will be held in Berkley B, Third Floor, Sheraton Boston Hotel, 39 Dalton Street, Boston, MA 02199. The public is invited to submit written statements to the MSAAC by any one of the following methods:

• E-mail address: mutualcommittee@ots.treas.gov; or

• Mail: to Charlotte Bahin, Designated Federal Official, Office of Thrift Supervision, 1700 G Street, NW., Washington, DC 20552 in triplicate.

The agency must receive statements no later than October 13, 2010.

FOR FURTHER INFORMATION CONTACT: Charlotte M. Bahin, Designated Federal Official, (202) 906-6452, Office of Thrift Supervision, 1700 G Street, NW., Washington, DC 20552.

SUPPLEMENTARY INFORMATION: By this notice, the Office of Thrift Supervision is announcing that the OTS Mutual Savings Association Advisory Committee will convene a meeting on Wednesday, October 20, 2010, beginning at 9:30 a.m. Eastern Time. The meeting will be open to the public. Anyone wishing to attend the meeting, and members of the public who require auxiliary aid, must contact the Office of Thrift Supervision at 202-906-6429 or mutualcommittee@ots.treas.gov by 5 p.m. Eastern Time on Wednesday, October 13, 2010, to inform OTS of his or her desire to attend the meeting and to obtain information on how to attend the meeting. The purpose of the meeting is to advise OTS on what regulatory changes or other steps OTS may be able to take to ensure the continued health and viability of mutual savings associations, and other issues of concern to the existing mutual savings associations.

Dated: September 29, 2010.
By the Office of Thrift Supervision.
Deborah Dakin,
Acting Chief Counsel.

[FR Doc. 2010-24846 Filed 10-4-10; 8:45 am]

BILLING CODE P